DEPARTMENT OF AGRICULTURE

Agricultural Marketing Service

[Docket No. AMS-FV-07-0100; FV-06-334]

United States Standards for Grades of Frozen Okra

AGENCY: Agricultural Marketing Service, USDA.

ACTION: Notice and request for comments.

SUMMARY: The Agricultural Marketing Service (AMS) of the Department of Agriculture (USDA) is soliciting comments on the proposed revision to the United States Standards for Grades of Frozen Okra. AMS received a petition from the American Frozen Food Institute (AFFI) requesting that USDA revise the standards for frozen okra from a “score point” grading system to an “individual attribute” grading system. The individual attribute grading system uses sample sizes and acceptable quality levels (AQL's), along with tolerances and acceptance numbers (number of allowable defects), to determine the quality level of a lot. This change was requested to bring the standards for frozen okra in line with the present quality levels being marketed today and to provide guidance in the effective utilization of frozen okra.

DATES: Comments must be submitted on or before February 11, 2008.

ADDRESSES: Interested persons are invited to submit written comments concerning this notice. Comments may be sent to Gabriel W. Mangino, Inspection and Standardization Section, Processed Products Branch, Fruit and Vegetable Programs, Agricultural Marketing Service, U.S. Department of Agriculture, STOP 0247, 1400 Independence Avenue, SW., Washington, DC 20250-0247; Fax: (202) 690-1087. E-mail: gabriel.mangino@usda.gov. Comments may also be sent to http://www.regulations.gov. The United States Standards for Grades of Frozen Okra are available either through the address cited above, or by accessing the AMS, Fruit and Vegetable Programs Web site on the Internet at http://www.ams.usda.gov/fv or http://www.regulations.gov.

SUPPLEMENTARY INFORMATION: Section 203(c) of the Agricultural Marketing Act of 1946, as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. Most of the United States Standards for Grades of Fruits and Vegetables no longer appear in the Code of Federal Regulations, but are maintained by USDA/AMS/Fruit and Vegetable Programs.

AMS is proposing to revise the U.S. Standards for Grades of Frozen Okra using the procedures that appear in Part 36 of Title 7 of the Code of Federal Regulations (7 CFR Part 36).

Background

AMS received a petition from the American Frozen Food Institute (AFFI), requesting the revision of the standards for frozen okra. The petitioner represents AFFI's Western Technical Advisory Committee, which includes among its members almost all of the processors of frozen okra in the United States.

The petitioner requested that USDA change the grading system for frozen okra from a score point grading system to an individual attribute system. The petitioner believes that the change will bring the grading of frozen okra in line with current marketing practices and innovations with processing techniques.

The petitioner also specifically requested that AMS revise the definitions of the following terms: Extraneous vegetable material, small piece in whole style, and small piece or damaged piece in cut style. It proposes that extraneous vegetable material would be modified to include “detached stems of any length.” “Small piece in whole style” would be modified and no longer include “very small tip ends” as part of the definition. The term “small or damaged piece in cut style,” would be changed and separated into two unique definitions. The suggestion for the new terms to be used are “small piece in cut style” and “mechanical damage” respectively. The proposed revisions to the grade standards for frozen okra, including the changes to the definitions of terms, are available by accessing the AMS Fruit and Vegetable Programs Home Page on the Internet at: http://www.ams.usda.gov/fv or http://www.regulations.gov. AMS confirmed the revision at AFFI's annual conference in Monterey, CA, during a meeting on February, 24, 2007.

In addition to the requested changes by the petitioner, AMS is requesting comments on replacing the dual grade nomenclature with single letter grade designations. “U.S. Grade A” (or “U.S. Fancy”) and “U.S. Grade B” (or “U.S. Extra Standard”) would become “U.S. Grade A” and “U.S. Grade B” respectively. This would conform to recent changes in other grade standards. AMS is also proposing minor editorial changes to the standards for frozen okra that would provide a format consistent with recent revisions of other U.S. grade standards. This format is intended to provide industry personnel and agricultural commodity graders with simpler and more comprehensive standards. Definitions of terms and easy to read tables would be incorporated to facilitate a better understanding and uniform application of the standards.

The proposed revisions to the frozen okra standards would provide both a common language for trade and a means of measuring value in the marketing of frozen okra. The standards would also provide guidance in determining whether frozen okra should be utilized in its present state, or subject to reprocessing. The official grade of a lot of frozen okra covered by these standards is determined by the procedures set forth in the “Regulations Governing Inspection and Certification of Processed Products Thereof, and Certain Other Processed Food Products (§ 52.1 to 52.83).”

This notice provides for a 60-day comment period for interested parties to comment on undertaking this revision.

Authority: 7 U.S.C. 1621-1627.

Dated: December 6, 2007.
Lloyd C. Day,
Administrator, Agricultural Marketing Service.

[FR Doc. E7-24058 Filed 12-11-07; 8:45 am]

BILLING CODE 3410-02-P